DEPARTMENT OF AGRICULTURE

Agricultural Marketing Service

[Docket No. TB-00-21]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection in support of the Dairy and Tobacco Adjustment Act of 1983 and the Tobacco Inspection Act and the Regulations Governing the Tobacco Standards.

DATES: Comments on this notice must be received by December 1, 2000 to be assured of consideration.

ADDITIONAL INFORMATION OR COMMENTS: Contact John W. Foster, Chief, Standardization and Review Branch, Tobacco Programs, Agricultural Marketing Service, U.S. Department of Agriculture, Room 511 Annex Building, P. O. Box 96456, Washington, DC 20090-6456, Telephone (202) 205-0744 and Fax (202) 205-1191.

SUPPLEMENTARY INFORMATION: Title: Reporting and Recordkeeping Requirements for 7 CFR Part 29.

OMB Number: 0581-0056.

Expiration Date of Approval: July 31, 2001.

Type of Request: Extension and revision of a currently approved information collection.

Abstract: The Tobacco Inspection Act (7 U.S.C. 511 et seq.) requires that all tobacco sold at designated auction markets in the U.S. be inspected and graded. Provision is also made for interested parties to request inspection and grading services on an as needed basis. Also, the Dairy and Tobacco Adjustment Act of 1983 (7 U.S.C. 511r) requires the Secretary to inspect all tobacco offered for importation into the United States for grade and quality except cigar and oriental tobacco which must be certified by the importer as to kind and type, and in the case of cigar tobacco, that such tobacco will be used solely in the manufacture of cigars.

The information collection requirements authorized for the programs under the Tobacco Inspection Act and the Dairy and Tobacco Adjustment Act of 1983 include: application for inspection of tobacco, applications and other information used in the approval of new auction markets or the extension of services to designated tobacco markets, and information required to be provided in connection with auction sales.

Estimate of Burden: Public reporting burden for this collection of information is estimated to average 0.40 hours per response.

Respondents: Primarily tobacco companies, tobacco manufacturers, import inspectors, and small businesses or organizations.

Estimated Number of Respondents: 645.

Estimated Number of Responses per Respondent: 21.

Estimated Total Annual Burden on Respondents: 5,569.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to John W. Foster, Chief, Standardization and Review Branch, Tobacco Programs, Agricultural Marketing Service, U.S. Department of Agriculture, Rm. 511 Annex Building, P.O. Box 96456, Washington, DC 20090-6456 and will be available for public inspection in Room 511 Annex Building, 300 12th Street, S.W., Washington, D.C. 20250. All comments received will be available for public inspection during regular business hours at the same address.

All responses to this notice will be summarized and included in the request for OMB approval. All comments will become a matter of public record.

Dated: September 26, 2000.
William O. Coats,
Acting Deputy Administrator, Tobacco Programs.

[FR Doc. 00-25137 Filed 9-29-00; 8:45 am]

BILLING CODE 3410-02-P